DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before November 12, 2021.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on October 4, 2021.
Donald P. Burger,
Chief, General Approvals and Permits Branch.

Application No. | Applicant | Regulation(s) affected | Nature of the special permits thereof
Special Permits Data—Granted
10915-M | Luxfer Inc | 172.203(a), 172.301(c), 173.302a(a)(1), 173.304a(a)(1), 180.205 | To modify the special permit to authorize additional Division 2.2 and 2.3 gases.
10970-M | Luxfer Inc | 173.302a(a)(1), 173.304a(a), 173.304a(d) | To modify the special permit to authorize additional Division 2.2 gases, to modify the safety control measures to more accurately reflect what type of fiber is used and to waive the elastic expansion requirement.
11646-M | Aegis Chemical Solutions, LLC | 172.203(a), 172.301(c), 177.834(h) | To modify the special permit by authorizing additional hazardous materials.
11725-M | Thales Alenia Space Italia SPA | 172.101(j), 173.301(f), 173.302a(a)(1), 173.304a(a)(2) | To modify the special permit to authorize an additional explosive.
12382-M | Air Transport International, Inc | 172.101(j), 173.27(b)(2), 173.27(b)(3), 175.30(a)(1) | To modify the special permit to authorize an increased quantity of explosives materials.
13173-M | Luxfer Canada Limited | 172.101(j), 173.302a(a)(1), 180.205(g) | To modify the special permit to authorize use the manufacture, marking, sale, and use of non-DOT specification fully wrapped carbon-fiber reinforced aluminum lined cylinders which are manifolded and permanently mounted in a protective frame for the transportation in commerce of the materials authorized by this special permit and authorize the use of a pneumatic proof pressure test for periodic requalification.
14232-M | Luxfer Inc | 173.302(a), 173.304(a), 180.205 | To modify the special permit to authorize additional 2.2 and 2.3 gases.
14467-M | Brenner Tank LLC | 172.203(a), 178.345-2, 178.346-2, 178.347-2, 178.348-2 | To modify the special permit to update to current DOT incorporations by reference in 49 CFR 171.7.
20418-M | Cimarron Composites, LLC | 173.302(a) | To modify the special permit to authorize an additional hazardous material.
21030-N | Mistras Group, Inc | 180.205(g) | To authorize the transportation in commerce of certain gases listed in paragraph 6 in certain composite overwrapped pressure vessels (COPVs) listed in paragraph 7 when Modal Acoustic Emission (MAE) examination is used for requalification in lieu of the hydrostatic pressure testing required in § 180.205 and the relevant special permits, as described in this special permit.
21139-M | KULR Technology Corporation | 172.200, 172.700(a) | To modify the special permit to authorize the transportation of lithium batteries transported for purposes of recycling, reuse, refurbishment, repurposing, or evaluation.
21180-N | Norse Flight, Inc | 172.101(j), 173.242, 173.243, 173.27 | To authorize the transportation in commerce of certain Class 3 hazardous materials by cargo-only aircraft in non-specification bulk packagings in quantities that exceed the authorized quantity limitations to remote areas of Alaska.
21198-N | Porsche Cars North America, Inc | 172.101(j) | To authorize the transportation in commerce of lithium ion batteries exceeding 35 kg by cargo-only aircraft.
21199-M | Solvay Fluorides, LLC | 173.227(c) | To modify the special permit to remove the requirement to line the freight container with plywood.
21227-N | Apollo Fusion, Inc | 173.302 | To authorize the transportation in commerce of Xenon in non-DOT specification cylinders.
21233-N | Airopack B.V | 178.33b-6(a) | To authorize the manufacture, mark, sale, and use on non-DOT specification inner containers similar to the DOT 2S specification.
21235-N | United States Dept of Energy | 173.413, 173.416 | To authorize the transportation in commerce of certain Class 7 materials in alternative packaging.
21244-N | Contrivance Incorporated | 172.203(a), 172.301(c), 180.211(c)(2)(i) | To authorize the repair of certain DOT 4L cylinders without requiring pressure testing.
21247-N | Volkswagen AG | 172.101(j) | To authorize the transportation in commerce of lithium ion batteries exceeding 35 kg by cargo-only aircraft.
21252-N | Honda Racing Development UK Ltd | 173.185(a)(1) | To authorize the transportation in commerce of prototype lithium batteries by cargo-only aircraft.
21253-N | Ford Motor Company | 172.101(j) | To authorize the transportation in commerce of certain lithium ion battery modules exceeding 35 kg aboard cargo-only aircraft.
21255-N | Mac Trailer Manufacturing, Inc | 172.203(a), 178.345-2, 178.346-2, 178.347-2, 178.348-2 | To authorize the manufacture, marking, sale and use of DOT 400 series cargo tanks fabricated using certain duplex stainless steels and other materials not authorized in 49 CFR 178.345-2 as materials of construction and fabricated with thickness less than specified.
21267-N | Synchronous LLC | 172.101(j) | To authorize the transportation in commerce of lithium batteries exceeding 35 kg by cargo-only aircraft.
21272-N | General Motors LLC | 173.220(d), 173.185(a)(1) | To authorize the transportation in commerce via motor vehicle of production batteries that have not been proven to be of a type that meets the testing requirements of the UN Manual of Test and Criteria Section 38.3.
21279-N | Davey Bickford USA, Inc | 173.56(b) | To authorize the transportation in commerce of certain explosives utilizing a shipping description that has not yet been incorporated into the HMR.
Special Permits Data—Denied
21114-N | Federal Cartridge Company | 172.203(a), 173.63(b)(2) | To authorize the transportation in commerce of small arms ammunition in a loose and unoriented configuration as a limited quantity.
21265-N | Marine Fire Systems, LLC | 173.56, 173.56 | To authorize the transportation of samples of a pyrotechnic extinguishing agent for testing in support of a DOT SBIR research project.
Special Permits Data—Withdrawn

[FR Doc. 2021-22158 Filed 10-8-21; 8:45 am]

BILLING CODE 4909-60-P